DEPARTMENT OF COMMERCE

National Oceanic and Atmospheric Administration

[I.D. 051800B]

At-sea Scale Certification Program

AGENCY: National Oceanic and Atmospheric Administration.

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before July 24, 2000.

ADDRESSES: Direct all written comments to Linda Engelmeier, Departmental Forms Clearance Officer, Department of Commerce, Room 6066, 14th and Constitution Avenue NW, Washington DC 20230 (or via Internet at lengelme@doc.gov).

FOR FURTHER INFORMATION CONTACT: Requests for additional information or copies of the information collection instrument(s) and instructions should be directed to Alan Kinsolving, NOAA/NMFS, F/AKR2, PO BOX 21668, Juneau, AK 99802-1668; phone 907-586-7228.

SUPPLEMENTARY INFORMATION:

I. Abstract

The National Marine Fisheries Service (NMFS) manages the commercial groundfish harvest off Alaska based on an annual total allowable catch for each species. This is based on “round” weight, or the weight of the fish prior to processing. However, much of the fish harvested off Alaska is harvested by vessels that process the catch at-sea and do not land whole fish. One way that NMFS uses to estimate the total weight of fish harvested by processing vessels is by requiring the vessel to weigh all or part of their catch on a motion-compensated scale. At this time, two groups of vessels are required to weigh all catch at-sea: catcher processors and motherships that are listed under the American Fisheries act as eligible to harvest pollock; and trawl catcher processors and motherships that are harvesting fish under the Community Development Quota Program (CDQ quota). Non-trawl catcher/processors that harvest CDQ quota are not required to weigh all catch, but they are required to weigh samples of catch. All of these vessels must also provide an observer sampling station where NMFS-certified observers can work. The station must be inspected and approved annually by NMFS.

II. Method of Collection

Scale manufacturers must submit documentation if they wish to have a scale approved by NMFS. Vessel owners required to weigh catch must used NMFS-inspected scales and sampling stations. To schedule an inspection, they must submit a request form. Vessels required to weigh all catch must test their scales daily and maintain documentation verifying that the testing took place. These vessels must also maintain a printed record of the weight of each haul that was required to be weighed. Finally, inspectors employed by other Federal, state, or local weights and measures agencies may request authority to inspect scales on behalf of NMFS.

III. Data

OMB Number: 0648-0330.

Form Number: None.

Type of Review: Regular submission.

Affected public: Business and other for-profit institutions.

Estimated Number of Respondents: 49.

Estimated Time Per Response: 176 hours for the scale type evaluation, 45 minutes for conducting and maintaining a record of the daily scale test, 6 minutes to retain a daily printed scale output, 6 minutes for the request for scale inspection, 6 minutes for maintenance of a scale approval sticker, 6 minutes for an application to inspect scales on behalf of NMFS, and 2 hours to make a request for observer sampling station inspection and maintaining the results.

Estimated Total Annual Burden Hours: 3,508.

Estimated Total Annual Cost to Public: $8,184.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and /or included in the request for OMB approval of this information collection; they also will become a matter of public record.

Dated: May 17, 2000.
Gwellnar Banks,
Management Analyst, Office of the Chief Information Officer.

[FR Doc. 00-12969 Filed 5-22-00; 8:45 am]

BILLING CODE 3510-22-F